DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On March 24, 2023, OFAC determined that the property and interests in property subject to U.S. jurisdiction of the following persons are blocked under the relevant sanctions authority listed below.

Individuals

1. LATT, Tun Min, 201, Tetkatho Yeikmon Condo-C, New University Avenue, Bahan Township, Yangon 11201, Burma; 45 Zayathukha Road, 54-Thuwunna Thingangyun Township, Yangon 11072, Burma; DOB 06 Feb 1969; POB Yangon, Burma; nationality Burma; Gender Male; Passport ME444441 (Burma) issued 13 Sep 2019 expires 12 Sep 2024; National ID No. 12/DAGANAN004114 (Burma) (individual) [BURMA-EO14014].

Designated pursuant to section 1(a)(i) of Executive Order 14014 of February 10, 2021, “Blocking Property With Respect to the Situation in Burma” (“E.O. 14014”) for operating in the defense sector of the Burmese economy or any other sector of the Burmese economy as may be determined by the Secretary of the Treasury, in consultation with the Secretary of State.

2. SOE, Win Min, 201, Tetkatho Yeikmon Condo-C, New University Avenue, Bahan Township, Yangon 11201, Burma; 45 Zayathukha Road, 54-Thuwunna Thingangyun Township, Yangon, Burma; DOB 26 Mar 1969; POB Mandalay, Burma; nationality Burma; Gender Female; Passport MD222228 (Burma) issued 15 May 2018 expires 14 May 2023; National ID No. 9/MANAMAN031190 (Burma) (individual) [BURMA-EO14014] (Linked To: LATT, Tun Min).

Designated pursuant to section 1(a)(v) of E.O. 14014 for being a spouse or adult child of TUN MIN LATT, a person whose property and interests in property are blocked pursuant to E.O. 14014.

Entities

1. ASIA SUN GROUP (a.k.a. ASIA SUN GROUP COMPANY LIMITED), Yangon-Insein Road No. 218, Building A, 16 Floor, Room A, Hlaing Township, Yangon Region, Burma; Organization Established Date 29 Mar 2012; Organization Type: Activities of holding companies; Business Registration Number 104355110 (Burma) [BURMA-EO14014].

Designated pursuant to section 1(a)(i) of E.O. 14014 for operating in the defense sector of the Burmese economy or any other sector of the Burmese economy as may be determined by the Secretary of the Treasury, in consultation with the Secretary of State.

2. ASIA SUN TRADING CO. LTD. (a.k.a. ASIA SUN TRADING COMPANY LIMITED; a.k.a. “ASIA SUN TRADING”), Ubc Tower, Unit 04-01, 4th Floor, Bo Cho Quarter, Bahan, Yangon Region, Burma; Organization Established Date 16 Dec 2015; Organization Type: Wholesale of solid, liquid and gaseous fuels and related products; Business Registration Number 104099424 (Burma) [BURMA-EO14014].

Designated pursuant to section 1(a)(i) of E.O. 14014 for operating in the defense sector of the Burmese economy or any other sector of the Burmese economy as may be determined by the Secretary of the Treasury, in consultation with the Secretary of State.

3. CARGO LINK PETROLEUM LOGISTICS CO. LTD. (a.k.a. CARGO LINK PETROLEUM LOGISTICS COMPANY LIMITED; f.k.a. CARGO LINK PONGRAWE LOGISTICS COMPANY LIMITED), No. 1009, Shwe Hin Thar Condo, Tower C1, Hlaing Township, Yangon Region, Burma; Organization Established Date 31 Oct 2016; Organization Type: Wholesale of solid, liquid and gaseous fuels and related products; Business Registration Number 112973281 (Burma) [BURMA-EO14014].

Designated pursuant to section 1(a)(i) of E.O. 14014 for operating in the defense sector of the Burmese economy or any other sector of the Burmese economy as may be determined by the Secretary of the Treasury, in consultation with the Secretary of State.

4. STAR SAPPHIRE GROUP OF COMPANIES (a.k.a. KYEI NILAR COMPANY; a.k.a. KYEI NILAR COMPANY LIMITED; a.k.a. KYEI NILAR COMPANY LTD.; a.k.a. STAR SAPPHIRE CO. LTD.; a.k.a. STAR SAPPHIRE COMPANY LIMITED; a.k.a. STAR SAPPHIRE GROUP), No. 30 B, Room 701/702, Yadanar Inya Condo, Than Lwin Road, Bahan Township, Yangon, Burma; Room 201, Building C, Takhatho Yeikmon Housing, New University Avenue Road, Bahan, Yangon, Burma; Organization Established Date 18 Nov 1999; Organization Type: Activities of holding companies [BURMA-EO14014] (Linked To: LATT, Tun Min).

Designated pursuant to section 1(a)(vii) of E.O. 14014 for being owned or controlled by, or for having acted or purported to act for or on behalf of, directly or indirectly, TUN MIN LATT, a person whose property and interests in property are blocked pursuant to E.O. 14014.

5. STAR SAPPHIRE GROUP PTE. LTD., 1 North Bridge Road, #30-00, High Street Centre, Singapore 179094, Singapore; Organization Established Date 20 Aug 2014; Organization Type: Non-specialized wholesale trade; Tax ID No. 201424367R (Singapore) [BURMA-EO14014] (Linked To: LATT, Tun Min; Linked To: SOE, Win Min).

Designated pursuant to section 1(a)(vii) of E.O. 14014 for being owned or controlled by, or for having acted or purported to act for or on behalf of, directly or indirectly, TUN MIN LATT, a person whose property and interests in property are blocked pursuant to E.O. 14014.

Designated pursuant to section 1(a)(vii) of E.O. 14014 for being owned or controlled by, or for having acted or purported to act for or on behalf of, directly or indirectly, WIN MIN SOE, a person whose property and interests in property are blocked pursuant to E.O. 14014.

6. STAR SAPPHIRE TRADING COMPANY LIMITED (a.k.a. STAR SAPPHIRE TRADING CO., LTD.), No. 5556/5558, Sagaing Street, Oattarathiri Township, Naypyitaw, Burma; Organization Established Date 20 Oct 2010; Organization Type: Non-specialized wholesale trade; Business Registration Number 114620785 (Burma) [BURMA-EO14014] (Linked To: LATT, Tun Min).

Designated pursuant to section 1(a)(vii) of E.O. 14014 for being owned or controlled by, or for having acted or purported to act for or on behalf of, directly or indirectly, TUN MIN LATT, a person whose property and interests in property are blocked pursuant to E.O. 14014.

Authority: E.O. 14014, 86 FR 9429.

Dated: March 24, 2023.
Andrea M. Gacki,
Director, Office of Foreign Assets Control, U.S. Department of the Treasury.

[FR Doc. 2023-06495 Filed 3-28-23; 8:45 am]

BILLING CODE 4810-AL-P